FEDERAL COMMUNICATIONS COMMISSION

47 CFR Part 73

[MB Docket No. 20-299, FCC 21-42; FR ID 76403]

Sponsorship Identification Requirements for Foreign Government-Provided Programming

AGENCY: Federal Communications Commission.

ACTION: Final rule; announcement of compliance date.

SUMMARY: In this document, the Commission announces that the Office of Management and Budget (OMB) has approved two information collections associated with rules governing sponsorship identification requirements for foreign government-provided programming in the 2021 Report and Order, FCC 21-42, in MB Docket No. 20-299. The Commission also announces that compliance with the rules is now required. It removes a paragraph in the adopted rules advising that compliance was not required until OMB approval was obtained. This document is consistent with the 2021 Report and Order, which states the Commission will publish a document in the Federal Register announcing a compliance date for the rule sections and revise the rules accordingly.

DATES: Effective March 15, 2022.

Compliance with 47 CFR 73.1212(j) and (k), published at 86 FR 32221 on June 17, 2021, is required as of March 15, 2022.

FOR FURTHER INFORMATION CONTACT: Radhika Karmarkar of the Media Bureau, Industry Analysis Division, at (202) 418-1523 or Radhika.Karmarkar@fcc.gov.

SUPPLEMENTARY INFORMATION: This document announces that OMB approved the two information collection requirements in §§ 73.1212(j) and (k), 73.3526(e)(19), and 73.3527(e)(15) on March 7, 2022. This document also removes section 73.1212(l) of the Commission's rules, which advised that compliance with 73.1212(j) and (k) was not required until OMB approval was obtained.

The Commission publishes this document as an announcement of the compliance date of the rules. If you have any comments on the burden estimates listed below, or how the Commission can improve the collections and reduce any burdens caused thereby, please contact Cathy Williams, Federal Communications Commission, Room 3.317, 45 L Street NE, Washington, DC 20554, regarding OMB Control Numbers 3060-0174 and 3060-0214. Please include the applicable OMB Control Number in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on March 7, 2022, for the information collection requirements contained in §§ 73.1212(j) and (k), 73.3526(e)(19), and 73.3527(e)(15). Under 5 CFR part 1320, an agency may not conduct or sponsor a collection of information unless it displays a current, valid OMB Control Number.

No person shall be subject to any penalty for failing to comply with a collection of information subject to the Paperwork Reduction Act that does not display a current, valid OMB Control Number.

The foregoing notice is required by the Paperwork Reduction Act of 1995, Public Law 104-13, October 1, 1995, and 44 U.S.C. 3507.

The total annual reporting burdens and costs for the respondents are as follows:

OMB Control Number: 3060-0174.

OMB Approval Date: March 7, 2022.

OMB Expiration Date: March 31, 2025.

Title: Sections 73.1212, 76.1615, and 76.1715, Sponsorship Identification.

Form Number: N/A.

Respondents: Business or other for profit entities; Individuals or households.

Number of Respondents and Responses: 22,900 respondents; 1,886,524 responses.

Estimated Time per Response: .0011 to .2011 hours.

Frequency of Response: Recordkeeping requirement, Third party disclosure requirement, On occasion reporting requirement.

Obligation to Respond: Required to obtain or retain benefits. The statutory authority for this collection is contained in sections 4(i), 317 and 507 of the Communications Act of 1934, as amended.

Total Annual Burden: 258,567 hours.

Total Annual Cost: $449,373.

Needs and Uses: The information collection requirements that are approved under this collection are as follows:

47 CFR 73.1212 requires a broadcast station to identify at the time of broadcast the sponsor of any matter for which consideration is provided. For advertising commercial products or services, generally the mention of the name of the product or service constitutes sponsorship identification. In the case of television political advertisements concerning candidates for public office, the sponsor shall be identified with letters equal to or greater than four (4) percent of the vertical height of the television screen that airs for no less than four (4) seconds. In addition, when an entity rather than an individual sponsors the broadcast of matter that is of a political or controversial nature, licensee is required to retain a list of the executive officers, or board of directors, or executive committee, etc., of the organization paying for such matter. Sponsorship announcements are waived with respect to the broadcast of “want ads” sponsored by an individual but the licensee shall maintain a list showing the name, address and telephone number of each such advertiser. These lists shall be made available for public inspection.

47 CFR 73.1212(e) states that, when an entity rather than an individual sponsors the broadcast of matter that is of a political or controversial nature, the licensee is required to retain a list of the executive officers, or board of directors, or executive committee, etc., of the organization paying for such matter in its public file. Pursuant to the changes contained in 47 CFR 73.1212(e) and 47 CFR 73.3526(e)(19), this list, which could contain personally identifiable information, would be located in a public inspection file to be located on the Commission's website instead of being maintained in the public file at the station.

Burden estimates for this change are included in OMB Control Number 3060-0214.

47 CFR 76.1615 states that, when a cable operator engaged in origination cablecasting presents any matter for which money, service or other valuable consideration is provided to such cable television system operator, the cable television system operator, at the time of the telecast, shall identify the sponsor. Under this rule section, when advertising commercial products or services, an announcement stating the sponsor's corporate or trade name, or the name of the sponsor's product is sufficient when it is clear that the mention of the name of the product constitutes a sponsorship identification. In the case of television political advertisements concerning candidates for public office, the sponsor shall be identified with letters equal to or greater than four (4) percent of the vertical height of the television screen that airs for no less than four (4) seconds.

47 CFR 76.1715 state that, with respect to sponsorship announcements that are waived when the broadcast/origination cablecast of “want ads” sponsored by an individual, the licensee/operator shall maintain a list showing the name, address and telephone number of each such advertiser. These lists shall be made available for public inspection.

This information collection was revised to reflect the burden associated with the foreign sponsorship identification disclosure requirements adopted in the Sponsorship Identification Requirements for Foreign Government-Provided Programming (86 FR 32221, June 17, 2021, FCC 21-42, rel. Apr. 22, 2021). The collection requires broadcast television and radio stations, as well as 325(c) permit holders, to make a specific disclosure at the time of broadcast if material aired pursuant to the lease of time on the station has been sponsored, paid for, or furnished by a foreign governmental entity that indicates the specific entity and country involved. Licensees of each broadcast station and 325(c) permit holders also are required to exercise reasonable diligence to ascertain whether the foreign sponsorship disclosure requirements apply at the time of the lease agreement and at any renewal thereof.

This information collection requirements will provide the Commission and the public with increased transparency and will ensure that audiences of broadcast stations are aware when a foreign government, or its representatives, are seeking to persuade the American public. The information collection requirements will also enable interested parties to monitor the extent of such efforts to persuade the American public.

OMB Control Number: 3060-0214.

OMB Approval Date: March 7, 2022.

OMB Expiration Date: March 31, 2025.

Title: Sections 73.3526 and 73.3527, Local Public Inspection Files; Sections 73.1212, 76.1701 and 73.1943, Political Files.

Form Number: N/A.

Respondents: Business or other for profit entities; Not for profit institutions; State, Local or Tribal government; Individuals or households.

Number of Respondents: 23,996 respondents; 66,839 responses.

Estimated Time per Response: 1-52 hours.

Frequency of Response: On occasion reporting requirement, Recordkeeping requirement, Third party disclosure requirement.

Obligation to Respond: Required to obtain or retain benefits. The statutory authority that covers this information collection is contained in Sections 151, 152, 154(i), 303, 307 and 308 of the Communications Act of 1934, as amended.

Total Annual Burden: 2,047,805 hours.

Total Annual Cost: No cost.

Needs and Uses: The information collection requirements included under this OMB Control Number 3060-0214, requires broadcast stations to maintain for public inspection a file containing the material set forth in 47 CFR 73.3526 and 73.3527.

This collection was revised to reflect the burden associated with the foreign sponsorship identification disclosure requirements adopted in the Sponsorship Identification Requirements for Foreign Government-Provided Programming (86 FR 32221, June 17, 2021, FCC 21-42, rel. Apr. 22, 2021). The collection requires broadcast television and radio stations to place copies of foreign sponsorship identification disclosures required by 47 CFR 73.1212(j) and the name of the program to which the disclosures were appended in its online public inspection file on a quarterly basis in a standalone folder marked as “Foreign Government-Provided Programming Disclosures.” The collection requires 325(c) permit holders to place copies of foreign sponsorship identification disclosures required by 47 CFR 73.1212(j) and the name of the program to which the disclosures were appended in its International Bureau Filing System record on a quarterly basis. The filing must state the date and time the program aired. In the case of repeat airings of the program, those additional dates and times should also be included. Where an aural announcement was made, its contents must be reduced to writing and placed in the online public inspection file in the same manner.

This information collection requirement will provide the Commission and the public with increased transparency and will ensure that audiences of broadcast stations are aware when a foreign government, or its representatives, are seeking to persuade the American public. The information collection requirements will also enable interested parties to monitor the extent of such efforts to persuade the American public.

Lists of Subjects in 47 CFR Part 73

Radio, Reporting and recordkeeping requirements, Television.

Federal Communications Commission.
Marlene Dortch,
Secretary, Office of the Secretary.

Final Rules

For the reasons discussed in the preamble, the Federal Communications Commission amends 47 CFR part 73 as follows.

PART 73—RADIO BROADCAST SERVICE

1. The authority citation for part 73 continues to read as follows:

Authority: 47 U.S.C. 154, 155, 301, 303, 307, 309, 310, 334, 336, 339.

§ 73.1212 [Amended]

2. Amend § 73.1212 by removing paragraph (l).

[FR Doc. 2022-05447 Filed 3-14-22; 8:45 am]

BILLING CODE 6712-01-P